FEDERAL MARITIME COMMISSION

Notice of Agreements Filed

The Commission hereby gives notice of the filing of the following agreements under the Shipping Act of 1984. Interested parties may obtain copies of agreements by contacting the Commission's Office of Agreements at (202) 523-5793 or via e-mail at tradeanalysis@fmc.gov. Interested parties may submit comments on an agreement to the Secretary, Federal Maritime Commission, Washington, DC 20573, within 10 days of the date this notice appears in the Federal Register.

Agreement No.: 011375-063.

Title: Trans-Atlantic Conference Agreement.

Parties: Atlantic Container Line AB; A. P. Moller-Maersk A/S; Hapag-Lloyd Container Linie GmbH; Mediterranean Shipping Company, S.A.; Nippon Yusen Kaisha; Orient Overseas Container Line Limited; and P&O Nedlloyd Limited.

Filing Party: Wayne R. Rohde, Esq.; Sher & Blackwell; 1850 M Street, NW., Suite 900; Washington, DC 20036.

Synopsis: The amendment adds a provision dealing with the payment of civil penalties.

Agreement No.: 011435-008.

Title: APL/TMM/Lykes Space Charter Agreement.

Parties: American President Lines, Ltd.; APL Co. Pte Ltd.; Lykes Lines Limited, LLC and TMM Lines Limited, LLC.

Filing Party: Wayne R. Rohde, Esq.; Sher & Blackwell; 1850 M Street, NW., Suite 900; Washington, DC 20036.

Synopsis: The amendment deletes authority for the parties to discuss and agree on rates.

Agreement No.: 011435-009.

Title: APL/TMM/Lykes Space Charter Agreement.

Parties: American President Lines, Ltd.; APL Co. Pte Ltd.; Lykes Lines Limited, LLC and TMM Lines Limited, LLC.

Filing Party: Wayne R. Rohde, Esq.; Sher & Blackwell; 1850 M Street, NW., Suite 900; Washington, DC 20036.

Synopsis: The amendment extends the duration of the agreement.

Agreement No.: 011728-002.

Title: Maersk Sealand/APL Mediterranean Slot Charter Agreement.

Parties: A.P. Moller-Maersk A/S; American President Lines, Ltd.; and APL Co. Pte Ltd.

Filing Party: Wayne R. Rohde, Esq.; Sher & Blackwell LLP; 1850 M Street, NW., Washington, DC 20036.

Synopsis: The amendment deletes references to the Suez Express Service, revises the slot allocations, and clarifies the basis of compensation.

Agreement No.: 011883-001.

Title: Maersk Sealand/Lykes Lines/TMM Lines Slot Exchange Agreement.

Parties: A. P. Moller-Maersk A/S; CP Ships USA LLC.

Filing Party: Wayne R. Rohde, Esq.; Sher & Blackwell; 1850 M Street, NW., Suite 900; Washington, DC 20036.

Synopsis: The amendment extends the duration of the agreement through June 20, 2005 and reflects a change in the name of Lykes.

By Order of the Federal Maritime Commission.
Dated: April 29, 2005.
Bryant L VanBrakle,
Secretary.

[FR Doc. 05-8885 Filed 5-3-05; 8:45 am]

BILLING CODE 6730-01-P